DEPARTMENT OF ENERGY

Federal Energy Regulatory Commission

[Docket No. RP95-191-003]

Williston Basin Interstate Pipeline Company; Notice of Refund Report

August 3, 2000.

Take notice that on July 31, 2000, Williston Basin Interstate Pipeline Company (Williston Basin) tendered for filing with the Commission certain revised tariff sheets to Original Volume No. 2 of its FERC Gas Tariff and a Refund Report in compliance with the Commission's Orders issued October 21, 1998 and December 17, 1997, which were upheld by the United States Court of Appeals for the Eighth Circuit in an opinion issued June 27, 2000 in Case Nos. 98-4079 and 99-3554.

Williston Basin states that it has revised its Rate Schedule X-13 rate to reflect the final depreciation rates and return on equity pursuant to the Commission's Orders issued July 25, 1995 and October 13, 2000, respectively, in Docket Nos. RP92-236-000, et al.

Williston Basin also states that on this same day, a refund of the amount owed is being sent to Northern States Power Company for the locked in period March 1, 1995 through February 28, 1997 with interest through August 1, 2000, in accordance with section 154.501 of the Commission's Regulations.

Any person desiring to protest said filing should file a protest with the Federal Energy Regulatory Commission, 888 First Street, NE., Washington, DC 20426, in accordance with section 385.211 of the Commission's Rules and Regulations. All such protests must be filed on or before August 10, 2000. Protests will be considered by the Commission in determining the appropriate action to be taken, but will not serve to make protestants parties to the proceedings. Copies of this filing are on file with the Commission and are available for public inspection in the Public Reference room. This filing may be viewed on the web at http://www.ferc.fed.us/online/rims.htm (call 202-208-2222 for assistance).

David P. Boergers,
Secretary.

[FR Doc. 00-20068 Filed 8-8-00; 8:45 am]

BILLING CODE 6717-01-M